DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Prior Notification of Exports Under License Exception AGR.

OMB Control Number: 0694-0123.

Form Number(s): BIS-748P.

Type of Request: Regular submission.

Burden Hours: 161.

Number of Respondents: 167.

Average Hours per Response: 58 minutes.

Needs and Uses: Section 906 of the Trade Sanctions Reform and Export Enhancement Act (TSRA) requires that exports of agricultural commodities, medicine or medical devices to Cuba or to the government of a country that has been determined by the Secretary of State to have repeatedly provide support for acts of international terrorism, or to any other entity in such a country, are made pursuant to one-year licenses issued by the U.S. Government. The TSRA further provides that the requirements of one-year licenses shall not be more restrictive than license exceptions administered by the Department of Commerce, except that procedures shall be in place to deny licenses for these exports to any country, or entity within a country, promoting international terrorism.

To meet the requirements of TSRA, BIS has imposed a prior notification procedure under License Exception AGR, and exports and certain reexports of agricultural commodities will be authorized under License Exception AGR.

Affected Public: Business and other for-profit organizations.

Frequency: On occasion.

Respondent's Obligation: Required to retain or obtain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285 or via the Internet at David_Rostker@omb.eop.gov.

Dated: September 5, 2008.
Gwellnar Banks,
Management Analyst, Office of the Chief Information Officer.

[FR Doc. E8-21033 Filed 9-10-08; 8:45 am]

BILLING CODE 3510-33-P